ENVIRONMENTAL PROTECTION AGENCY

[FRL-7071-8]

Agency Information Collection Activities: Submission for OMB Review; Comment Request; Superfund Site Evaluation and Hazard Ranking System

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “Superfund Site Evaluation and Hazard Ranking System,” OMB Control Number 2050-0095; expiring September 30, 2001. The ICR describes the nature of the information collection and its expected burden and cost; where appropriate, it includes the actual data collection instrument.

DATES: Comments must be submitted on or before November 5, 2001.

ADDRESSES: Send comments, referencing EPA ICR No. 1488.05 and OMB Control No. 2050-0095 to the following addresses: Sandy Farmer, U.S. Environmental Protection Agency, Collection Strategies Division (Mail Code 2822), 1200 Pennsylvania Avenue, NW, Washington, DC 20460; and to Office of Information and Regulatory Affairs, Office of Management and Budget (OMB), Attention: Desk Officer for EPA, 725 17th Street, NW, Washington, DC 20503.

FOR FURTHER INFORMATION CONTACT: For a copy of the ICR contact Sandy Farmer at EPA by phone at (202) 260-4901, by e-mail at Farmer.sandy@epa.gov, or download off the Internet at http://www.epa.gov/icr and refer to EPA ICR No. 1488.05. For technical questions about the ICR contact Randy Hippen at EPA by phone at (703) 603-8829 or by e-mail at Hippen.randy@epa.gov.

SUPPLEMENTARY INFORMATION: Title: Superfund Site Evaluation and Hazard Ranking System (OMB Control No.2050-0095; EPA ICR No. 1488.05) expiring September 30, 2001. This is a request for extension of a currently approved collection.

Abstract: Section 105 of the Comprehensive Environmental Response, Compensation, and Liability Act (CERCLA, 1980 and 1986) amends the National Oil and Hazardous Substances Contingency Plan (NCP) to include criteria prioritizing releases throughout the U.S. before undertaking remedial action at uncontrolled hazardous waste sites. The Hazard Ranking System (HRS) is a model that is used to evaluate the relative threats to human health and the environment posed by actual or potential releases of hazardous substances, pollutants, and contaminants. The HRS criteria take into account the population at risk, the hazard potential of the substances, as well as the potential for contamination of drinking water supplies, direct human contact, destruction of sensitive ecosystems, damage to natural resources affecting the human food chain, contamination of surface water used for recreation or potable water consumption, and contamination of ambient air.

Under this ICR, the States will apply the HRS by identifying and classifying those releases that warrant further investigation. The information collected under this ICR is required to help determine whether a site is eligible to be included on the National Priorities List (NPL). Only sites on the NPL are eligible for Superfund-financed remedial actions. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on April 26, 2001; no comments were received.

Burden Statement: The annual public reporting and record keeping burden for this collection of information is estimated to range from 44 to 1,870 hours per site depending on how far a site progresses through the site assessment process. Sites needing Pre-CERCLIS Screening and no other Superfund site assessment work will require an average of 44 hours per site, while sites progressing though all of the major phases of the site assessment process will require an average of 1,870 hours per site. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Indian Tribes, and U.S. Territories performing Superfund site evaluation activities.

Estimated Number of Respondents: 60.

Frequency of Response: One time.

Estimated Total Annual Hour Burden: 230,533 hours.

Estimated Total Annualized Capital, O&M Cost Burden: $0.

Send comments on the Agency's need for this information, the accuracy of the provided burden estimates, and any suggested methods for minimizing respondent burden, including through the use of automated collection techniques to the addresses listed above. Please refer to EPA ICR No. 1488.05 and OMB Control No. 2050-0095 in any correspondence.

Dated: September 24, 2001.
Oscar Morales,
Director, Collection Strategies Division.

[FR Doc. 01-24898 Filed 10-3-01; 8:45 am]

BILLING CODE 6560-50-P